DEPARTMENT OF ENERGY

Federal Energy Regulatory Commission

[Docket No. EL10-52-000]

Central Transmission, LLC v. PJM Interconnection L.L.C.; Notice of Complaint

March 26, 2010.

Take notice that on March 25, 2010, Central Transmission, LLC (Central Transmission) filed a complaint against the PJM Interconnection L.L.C. (PJM) pursuant to section 206 of the Federal Power Act (FPA), alleging that Schedule 6 of the PJM Operating Agreement and Schedule 12 of the PJM Open Access Transmission Tariff are unjust and unreasonable and unduly discriminatory in violation of FPA section 206 insofar as the provisions (i) could prevent PJM from designating Central Transmission to construct and own a transmission project; (ii) under the same cost recovery provisions in Schedule 12 of the PJM Tariff on the same terms and conditions that are available to those entities that currently own transmission facilities that comprise the PJM transmission system.

Central Transmission certifies that copies of the complaint were served on the contacts for Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 14, 2010.

Kimberly D. Bose,
Secretary.

[FR Doc. 2010-7302 Filed 3-31-10; 8:45 am]

BILLING CODE 6717-01-P